DEPARTMENT OF HOMELAND SECURITY

Federal Emergency Management Agency

[Docket ID: FEMA-2010-0044]

Agency Information Collection Activities: Submission for OMB Review; Comment Request, OMB No. 1660-0016; Revision to National Flood Insurance Program Maps: Application Forms for LOMRs and CLOMRs

AGENCY: Federal Emergency Management Agency, DHS.

ACTION: Notice; 30-day notice and request for comments; revision of a currently approved information collection; OMB No. 1660-0016; FEMA Form 086-0-27 (formerly FEMA Form 81-89), Overview and Concurrence Form; FEMA Form 086-0-27A (formerly FEMA Form 81-89A), Riverine Hydrology and Hydraulics Form; FEMA Form 086-0-27B (formerly FEMA Form 81-89B), Riverine Structures Form; FEMA Form 086-0-27C (formerly FEMA Form 81-89C), Coastal Analysis Form; FEMA Form 086-0-27D (formerly FEMA Form 81-89D), Coastal Structures Form; FEMA Form 086-0-27E (formerly FEMA Form 81-89E), Alluvial Fan Flooding Form.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before December 2, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION: One comment was received in response to the 60-day Federal Register Notice published July 27, 2010, 75 FR 43998. The comment asked for clarification on the difference in notification requirements for Letter of Map Revisions (LOMRs) and Physical Map Revisions (PMRs). The reason for the difference is explained in FEMA Form 086-0-27A (formerly FEMA Form 81-89A), Riverine Hydrology and Hydraulics Form. The commenter also was concerned that the notification is costly and time consuming and mentioned that the notifications must be sent using certified mail, but that is not a requirement.

Collection of Information

Title: Revision to National Flood Insurance Program Maps: Application Forms for LOMRs and CLOMRs.

Type of information collection: Revision of a currently approved information collection.

OMB Number: 1660-0016.

Form Titles and Numbers: FEMA Form 086-0-27 (formerly FEMA Form 81-89), Overview and Concurrence Form; FEMA Form 086-0-27A (formerly FEMA Form 81-89A), Riverine Hydrology and Hydraulics Form; FEMA Form 086-0-27B (formerly FEMA Form 81-89B), Riverine Structures Form; FEMA Form 086-0-27C (formerly FEMA Form 81-89C), Coastal Analysis Form; FEMA Form 086-0-27D (formerly FEMA Form 81-89D), Coastal Structures Form; FEMA Form 086-0-27E (formerly FEMA Form 81-89E), Alluvial Fan Flooding Form.

Abstract: The certification forms are designed to assist requesters in gathering information that FEMA needs to revise a National Flood Insurance Program (NFIP) map. This data is required to ensure that requested revisions are in compliance with NFIP regulations. These revisions are granted if the technical information submitted demonstrates that the prior determination of a Special Flood Hazard Area, floodway or Base Flood Elevation on a flood map is no longer valid.

Affected Public: Business or other for-profit; State, local or Tribal Government.

Estimated Number of Respondents: 1,500.

Frequency of Response: On Occasion.

Estimated Average Hour Burden per Respondent: 11.8 hours.

Estimated Total Annual Burden Hours: 17,700 hours.

Estimated Cost: The estimated annual operations and maintenance cost is $26,250,000. There is no annual or capital start-up cost.

Dated: October 27, 2010.
Lesia M. Banks,
Director, Records Management Division, Mission Support Bureau, Federal Emergency Management Agency, Department of Homeland Security.

[FR Doc. 2010-27656 Filed 11-1-10; 8:45 am]

BILLING CODE 9110-12-P